DEPARTMENT OF AGRICULTURE

Rural Housing Service

Section 538 Guaranteed Rural Rental Housing Program (GRRHP) Demonstration Program for Fiscal Year 2008

AGENCY: Rural Housing Service, USDA.

ACTION: Notice; amendment.

SUMMARY: The Rural Housing Service (RHS) is amending a notice published April 21, 2008 (73 FR 21305-21307). This action is taken to extend the application obligation date of eligible applications. This amendment is to ensure that all applications that meet program criteria and have responded accordingly will be considered in the Demonstration Program.

Accordingly, the Notice published on April 21, 2008 (73 FR 21305-21307), is amended as follows:

On page 21306, in the second column, second paragraph, under the heading “Demonstration Program Selection Process,” the second paragraph is amended to read as follows: “The first round of selections into the Demonstration Program will be made on April 25, 2008. In the event there are not enough qualified requests for selection into the Demonstration Program to utilize all the available Demonstration Program set-aside funds of approximately $13 million, then the selection process for any remaining funds will be conducted again on July 11, 2008. If needed, an additional selection process will be conducted again on September 29, 2008. All applicants will be notified of the selection results no later than 30 business days from the date of selection.”

Dated: July 3, 2008.
Russell T. Davis,
Administrator, Rural Housing Service.

[FR Doc. E8-16344 Filed 7-18-08; 8:45 am]

BILLING CODE 3410-XV-P